COMMITTEE FOR PURCHASE FROM PEOPLE WHO ARE BLIND OR SEVERELY DISABLED

Procurement List; Proposed Additions and Deletions

AGENCY: Committee for Purchase From People Who Are Blind or Severely Disabled.

ACTION: Proposed additions to and deletions from the Procurement List.

SUMMARY: The Committee is proposing to add products and services to the Procurement List that will be furnished by nonprofit agencies employing persons who are blind or have other severe disabilities, and deletes products previously furnished by such agencies.

DATES: Comments must be received on or before: June 21, 2020.

ADDRESSES: Committee for Purchase From People Who Are Blind or Severely Disabled, 1401 S Clark Street, Suite 715, Arlington, Virginia 22202-4149.

FOR FURTHER INFORMATION CONTACT: For further information or to submit comments contact: Michael R. Jurkowski, Telephone: (703) 603-2117, Fax: (703) 603-0655, or email CMTEFedReg@AbilityOne.gov.

SUPPLEMENTARY INFORMATION: This notice is published pursuant to 41 U.S.C. 8503(a)(2) and 41 CFR 51-2.3. Its purpose is to provide interested persons an opportunity to submit comments on the proposed actions.

Additions

If the Committee approves the proposed additions, the entities of the Federal Government identified in this notice will be required to procure the products and services listed below from nonprofit agencies employing persons who are blind or have other severe disabilities.

The following products and services are proposed for addition to the Procurement List for production by the nonprofit agencies listed:

Products

NSN(s)—Product Name(s):

MR 13031—Salad Spinner

MR 13034—Dispenser, Creamer, Plastic

MR 13035—Dispenser, Sugar, Plastic

MR 13036—Herb Keeper, Green Saver, Large, 2.8 Qt.

MR 13060—Flavor Injector, Meat and Poultry

MR 13061—Good Gravy Fat Separator, 4 Cup

MR 13062—Rack, Pressure Cooker, Silicone

MR 13063—Rack, Roasting, Silicone

Mandatory Source of Supply: Cincinnati Association for the Blind, Cincinnati, OH

Contracting Activity: Defense Commissary Agency

NSN(s)—Product Name(s):

8415-01-F05-3093—Face Covering/Mask, Universally Sized, OCP, Type I

8415-01-F05-3095—Face Covering/Mask, Universally Sized, OCP, Type II

Mandatory Source of Supply: Industries of the Blind, Inc., Greensboro, NC; ReadyOne Industries, Inc., El Paso, TX

Contracting Activity: W6QK ACC-APG NATICK

Service

Service Type: Document Management/Document Conversion

Mandatory for: Army National Guard, Temple Army Readiness Center, Arlington, VA

Mandatory Source of Supply: Columbia Lighthouse for the Blind, Washington, DC; Lighthouse for the Blind of Houston, Houston, TX

Contracting Activity: W39L USA NG READINESS CENTER

Deletions

The following products are proposed for deletion from the Procurement List:

Products

NSN(s)—Product Name(s): 2815-01-492-5709—Parts Kit, Diesel Engine Hydraulic Transmission

Mandatory Source of Supply: Georgia Industries for the Blind, Bainbridge, GA

Contracting Activity: DLA Land and Maritime, Columbus, OH

NSN(s)—Product Name(s): 7510-01-599-9349—Toner Cartridge, Laser, Double Yield, Compatible w/Lexmark T650 Series Printers

Mandatory Source of Supply: Alabama Industries for the Blind, Talladega, AL

Contracting Activity: GSA/FAS ADMIN SVCS ACQUISITION BR(2, NEW YORK, NY

Michael R. Jurkowski,
Deputy Director, Business & PL Operations.

[FR Doc. 2020-11094 Filed 5-21-20; 8:45 am]

BILLING CODE 6353-01-P